DEPARTMENT OF COMMERCE

International Trade Administration

[C-489-843]

Prestressed Concrete Steel Wire Strand from the Republic of Turkey: Alignment of Final Countervailing Duty Determination With Final Less-Than-Fair-Value Determinations

AGENCY: Enforcement and Compliance, International Trade Administration, Department of Commerce.

DATES: Applicable November 5, 2020.

FOR FURTHER INFORMATION CONTACT: Whitley Herndon or Jacob Garten, AD/CVD Operations, Office II, Enforcement and Compliance, International Trade Administration, U.S. Department of Commerce, 1401 Constitution Avenue NW, Washington, DC 20230; telephone: (202) 482-6274 or (202) 482-3342, respectively.

SUPPLEMENTARY INFORMATION:

Background

On May 6, 2020, the Department of Commerce (Commerce) initiated the countervailing duty (CVD) investigation of prestressed concrete steel wire strand (PC strand) from the Republic of Turkey (Turkey).¹ Simultaneously, Commerce initiated the less-than-fair-value (LTFV) investigations of PC strand from Argentina, Colombia, Egypt, Indonesia, Italy, Malaysia, the Netherlands, Saudi Arabia, South Africa, Spain, Taiwan, Tunisia, Turkey, Ukraine, and the United Arab Emirates (UAE).² The CVD investigation and the LTFV investigations cover the same class or kind of merchandise.

¹ See Prestressed Concrete Steel Wire Strand from the Republic of Turkey: Initiation of Countervailing Duty Investigation, 85 FR 28610 (May 13, 2020).

² See Prestressed Concrete Steel Wire Strand from Argentina, Colombia, Egypt, Indonesia, Italy, Malaysia, the Netherlands, Saudi Arabia, South Africa, Spain, Taiwan, Tunisia, the Republic of Turkey, Ukraine, and the United Arab Emirates: Initiation of Less-Than-Fair-Value Investigations, 85 FR 28605 (May 13, 2020).

Alignment With Final LTFV Determinations

On September 22, 2020, in accordance with section 705(a)(1) of the Tariff Act of 1930, as amended (the Act), Insteel Wire Products Company, Sumiden Wire Products Corporation, and Wire Mesh Corp. (collectively, the petitioners) timely requested an alignment of the final CVD determination in this investigation with the final determinations in the LTFV investigations of PC strand from Argentina, Colombia, Egypt, Netherlands, Saudi Arabia, Taiwan, Turkey, and the UAE.³ The petitioners stated that, if certain of these final LTFV determinations are postponed, then they request that the final determination in this CVD investigation remain aligned with any LTFV final determinations that are not postponed. Therefore, in accordance with section 705(a)(1) of the Act and 19 CFR 351.210(b)(4)(i), Commerce is aligning the final CVD determination with the final determinations in the LTFV investigations of PC strand from Argentina, Colombia, Egypt, Netherlands, Saudi Arabia, Taiwan, Turkey, and the UAE. Consequently, the final CVD determination will be issued on the same date as these final LTFV determinations, which are currently scheduled to be issued no later than December 7, 2020, unless postponed.

³ See Petitioners' Letter, “Prestressed Concrete Steel Wire Strand from the Republic of Turkey—Petitioners' Request to Align Final Determinations,” dated September 22, 2020. The petitioners' letter states that they request alignment with the final LTFV investigations of PC strand that are not postponed and scheduled to issue final determinations on December 7, 2020. As of the date of this notice, these investigations are PC strand from Argentina, Colombia, Egypt, the Netherlands, Saudi Arabia, Taiwan, Turkey, and the United Arab Emirates.

This notice is issued and published pursuant to section 705(a)(1) of the Act and 19 CFR 351.210(b)(4)(i).

Dated: October 30, 2020.
Jeffrey I. Kessler,
Assistant Secretary for Enforcement and Compliance.

[FR Doc. 2020-24564 Filed 11-4-20; 8:45 am]

BILLING CODE 3510-DS-P